DEPARTMENT OF COMMERCE

National Oceanic and Atmospheric Administration

50 CFR Part 679

[Docket No. 010112013-1160-05; I.D. 061401A]

RIN 0648-A082

Fisheries of the Exclusive Economic Zone Off Alaska; Correction to the Emergency Interim Rule; Closure

AGENCY: National Marine Fisheries Service (NMFS), National Oceanic and Atmospheric Administration (NOAA), Commerce.

ACTION: Correction to the emergency interim rule for Steller Sea Lion Protection Measures for the Groundfish Fisheries Off Alaska; Final 2001 Harvest Specifications and Associated Management Measures for the Groundfish Fisheries Off Alaska; Closure.

SUMMARY: NMFS amends an emergency interim rule by removing the 150 metric ton (mt) of the seasonal allocation of Pacific halibut prohibited species catch (PSC) apportioned to the “shallow water trawl fishery” during June 10 to July 1. NMFS is also prohibiting directed fishing by vessels using trawl gear in the Gulf of Alaska (GOA) for species that comprise the shallow water species fishery, except for vessels fishing for pollock using pelagic trawl gear in those portions of the GOA open to directed fishing for pollock. This action is necessary to preserve limited bycatch amounts of Pacific halibut while NMFS reviews the seasonal allocation of GOA Pacific cod total allowable catch (TAC) recommended by the North Pacific Fishery Management Council (Council).

DATES: Tables 24 and 25 to the preamble are effective 1200 hrs, Alaska local time (A.l.t.), June 27, 2001, through 2400 hrs, A.l.t., July 17, 2001. The closure for the shallow water species fishery by vessels using trawl gear in the GOA is effective 1200 hrs, A.l.t., June 27, 2001, through 1200 hrs, A.l.t., July 1, 2001.

FOR FURTHER INFORMATION CONTACT: Mary Furuness, 907-586-7228.

SUPPLEMENTARY INFORMATION: NMFS manages the groundfish fishery in the GOA exclusive economic zone according to the Fishery Management Plan for Groundfish of the Gulf of Alaska (FMP) prepared by the North Pacific Fishery Management Council (Council) under authority of the Magnuson-Stevens Fishery Conservation and Management Act (Magnuson-Stevens Act). Regulations governing fishing by U.S. vessels in accordance with the FMP appear at subpart H of 50 CFR part 600 and 50 CFR part 679.

Correction to the Emergency Interim Rule

In December 2000, the Council recommended seasonal Pacific halibut PSC apportionments in order to maximize harvest among gear types, fisheries, and seasons while minimizing bycatch of Pacific halibut. The seasonal apportionments of the Pacific halibut PSC were published in Tables 24 and 25 of the emergency interim rule implementing the Steller sea Lion Protection Measures for the Groundfish Fisheries Off Alaska; Final 2001 Harvest Specifications and Associated Management Measures for the Groundfish Fisheries Off Alaska (66 FR 7276, January 22, 2001). However, at an emergency January 12, 2001, meeting, NMFS presented the Council with the 2001 Steller sea lion protection measures, one of which separates the GOA Pacific cod TAC into two separate seasonal allowances. The A season, January 1, 2001, through noon, A.l.t., June 10, 2001, is allocated 60 percent of the annual TAC. The B season, starting at noon, A.l.t., June 10, 2001, through midnight, A.l.t., December 31, 2001, is allocated 40 percent of the annual TAC. In response to the new seasonal apportionments of the GOA Pacific cod TAC, the Council requested NMFS to also reapportion seasonal Pacific halibut PSC amounts to support the seasonal Pacific cod fisheries (66 FR 17087, March 29, 2001).

At its April 2001 meeting, the Council recommended delaying the Pacific cod “B” season from June 10 to September 1. When the Council made this recommendation, it took no action on the Pacific halibut PSC seasonal allowance, i.e., the seasonal allowance became available on June 10. At the Council’s June 2001 meeting, certain industry representatives expressed their concern that fishermen could start fishing for the other species in the “shallow water trawl fishery” and could catch substantial amounts of the Pacific halibut PSC seasonal limit, leaving insufficient amounts of this seasonal limit to support a Pacific cod fishery “B” season.

Regulations at § 679.21(d)(3)(iii) authorize apportionments of the trawl Pacific halibut PSC limit to the “shallow water trawl fishery.” This apportionment is further allocated seasonally. The current seasonal allowance is available June 10 to July 1. In response to industry concerns, at its June meeting, the Council recommended that the 150 mt seasonal apportionment of the Pacific halibut trawl PSC available during June 10 to July 1 season be held aside to preserve bycatch amounts of Pacific halibut that would be necessary to support a “B” season that may occur during the latter part of the year.

NMFS is reviewing the Council’s recommendation to delay the Pacific cod “B” season from June 10 to September 1 and will make a final determination on that recommendation by July 17.

Accordingly, Tables 24 and 25 of the Steller Sea Lion Protection Measures for the Groundfish Fisheries Off Alaska; Final 2001 Harvest Specifications and Associated Management Measures for the Groundfish Fisheries Off Alaska (66 FR 7276, January 22, 2001) are adjusted to read as follows:

Table 24 - Final 2001 Pacific halibut PSC limits, allowances, and apportionments. The Pacific halibut PSC limit for hook-and-line gear is allocated to the demersal shelf rockfish (DSR) fishery and fisheries other than DSR. The hook-and-line sablefish fishery is exempt from halibut PSC limits.
(Values are in mt)
Trawl gear: Dates | Trawl gear: Amount | Hook-and-line gear: Other than DSR: Dates | Hook-and-line gear: Other than DSR: Amount | Hook-and-line gear: DSR: Dates | Hook-and-line gear: DSR: Amount
Jan 1-Apr 1 | 550 (28%) | Jan 1-May 7 | 205 (70%) | Jan 1-Dec 31 | 10 (100%)
Apr 1-Jun 10 | 400 (20%) | May 17-Aug 31 | Any rollover |  |
Jun 1-Jul 1 | 0 (0%) | Aug 31-Dec 31 | 85 (30%) |  |
Jul 1-Sep 1 | 600 ( 7%) |  |  |  |
Oct 1-Dec 31 | 300 (15%) |  |  |  |
Total | 1,850 (100%) |  | 290 (100%) |  | 10 (100%)

Table 25 - Final 2001 apportionment of Pacific halibut PSC trawl limits between the trawl gear deep-water species complex and the shallow-water species complex.
(Values are in metric tons)
Season | Shallow-water | Deep-water | Total
Jan. 20-Apr. 1 | 450 | 100 | 550
Apr. 1-Jun. 10 | 100 | 300 | 400
Jun. 10-Jul. 1 | 0 | 0 | 0
Jul. 1-Sep. 1 | 200 | 400 | 600
Subtotal |  |  |
Jan. 20-Sep. 30 | 750 |
Oct. 1-Dec. 31 |  |  | 300
Total |  |  | 1,850
No apportionment between shallow-water and deep-water fishery complexes during October 1 through December 31.

Closure

The GOA trawl shallow-water species fishery started June 10, 2001, under the Final 2001 Harvest Specifications and Associated Management Measures for the Groundfish Fisheries Off Alaska (66 FR 7276, January 22, 2001) and adjusted (66 FR 17087, March 29, 2001). Because this rulemaking removes the trawl Pacific halibut PSC for the June 10 to July 1 season, the Pacific halibut PSC allocation will no longer be available for the current shallow water species fishery.

Consequently, NMFS is prohibiting directed fishing for species included in the shallow-water species fishery by vessels using trawl gear in the GOA, except for vessels fishing for pollock using pelagic trawl gear in those portions of the GOA open to directed fishing for pollock, since such gear is expected to use little, if any, of the Pacific halibut PSC allocation. The species and species groups that comprise the shallow-water species fishery are: pollock, Pacific cod, shallow-water flatfish, flathead sole, Atka mackerel, and "other species.” Maximum retainable bycatch amounts may be found in the regulations at § 679.20(e) and (f).

Classification

The Administrator, Alaska Region, NMFS (Regional Administrator), has determined that this emergency interim rule is necessary for the conservation and management of the groundfish fisheries of the Bering Sea and Aleutian Islands (BSAI) and GOA. The Regional Administrator also has determined that this rule is consistent with the Magnuson-Stevens Act and other applicable laws.

This amendment has been determined to be not significant for purposes of Executive Order 12866. This amendment to an emergency interim rule contains no reporting, recordkeeping, or compliance requirements, and no relevant Federal rules exist that may duplicate, overlap, or conflict with this rule.

This amendment must be implemented immediately to avoid foregone catch in the B season GOA trawl gear Pacific cod fishery. By removing the halibut PSC available to trawl gear from the June 10 through July 1 seasonal allowance until subsequent interim rulemaking is implemented by mid-July 2001 to establish new fishing seasons for the shallow-water species fishery by vessels using trawl gear and other Steller sea lion protection measures for the second half of 2001, this amendment will accommodate the new Pacific cod season and optimize the harvest of Pacific cod. Therefore, NMFS finds that good cause exists to waive the requirement to provide prior notice and opportunity for public comment pursuant to the authority set forth at 5 U.S.C. 553(b)(3)(B) and 50 CFR 679.20(b)(3)(iii)(A), as such procedures would be contrary to the public interest. Similarly, the need to implement these measures in a timely fashion to optimize the harvest of GOA Pacific cod constitutes good cause to find that the effective date of this action cannot be delayed for 30 days. Accordingly, under 5 U.S.C. 553(d), a delay in the effective date is hereby waived.

Because this emergency interim rule is not subject to the requirement to provide notice or an opportunity for comment by 5 U.S.C. 553 or any other law, the analytical requirements of the Regulatory Flexibility Act, 5 U.S.C. 601 et seq., are not applicable. Thus, no initial or final regulatory flexibility analysis has been prepared.

Dated: June 26, 2001.
William T. Hogarth,
Acting Assistant Administrator for Fisheries, National Marine Fisheries Service.

[FR Doc. 01-16574 Filed 6-27-01; 4:09 pm]

BILLING CODE 3510-22-S